DEPARTMENT OF HOUSING AND URBAN DEVELOPMENT

[Docket No. FR-4900-FA-02]

Announcement of Funding Awards for Fiscal Year 2004 Early Doctoral Student Research Grant Program

AGENCY: Office of the Assistant Secretary for Policy Development and Research, HUD.

ACTION: Announcement of funding awards.

SUMMARY: This document identifies the doctoral students selected for funding under the Fiscal Year (FY) 2004 Early Doctoral Student Research Grant (EDSRG) Program. The EDSRG program enables doctoral students to cultivate their research skills through the preparation of research manuscripts that focus on policy-relevant housing and urban development issues.

FOR FURTHER INFORMATION CONTACT: Susan Brunson, Office of University Partnerships, Department of Housing and Urban Development, Room 8106, 451 Seventh Street, SW., Washington, DC 20410-6000, telephone (202) 708-3061, ext. 3852. To provide service for persons who are hearing-or speech-impaired, this number may be reached through TTY by dialing the Federal Information Relay Service on 800-877-8339 or 202-708-1455. (Telephone numbers, other than “800” TTY numbers are not toll free).

SUPPLEMENTARY INFORMATION: The EDSRG enables students to cultivate their research skills through the preparation of research manuscripts that focus on policy-relevant housing and urban development issues. Doctoral students have 12 months to complete a major research study. The maximum amount to be awarded is $15,000.

This program is administered by the Associate Deputy Assistant Secretary for University Partnerships. This Office also administers Policy Development and Research's other grant programs for academics.

The Catalog of Federal Domestic Assistance number for this program is 14.517.

On May 14, 2004 (69 FR 27111), HUD published a Notice of Funding Availability (NOFA) announcing the availability of $150,000 in FY 2004 funds for the EDSRG Program. The Department reviewed, evaluated and scored the applications received based on the criteria in the NOFA. As a result, HUD has funded the applicants identified below, and in accordance with Section 102(a)(4)(C) of the Department of Housing and Urban Development Reform Act of 1989 (103 Stat. 1987, U.S.C. 3545), the Department is publishing details concerning the recipients of funding awards. More information about the winners can be found at http://www.oup.org.

List of Awardees for Grant Assistance Under the FY 2004 Early Doctoral Student Research Grant Program Funding Competition, by Institution, Address, Grant Amount and Name of Student Funded

1. University of Pittsburgh, Graduate School of Public and International Affairs, 350 Thackeray Hall, Pittsburgh, PA 15260. Grant: $14,900 to Flexi Au Yeung.

2. Kansas State University, Department of Economics, 2 Fairchild Hall, Manhattan, KS 66506. Grant: $15,000 to Heather Luea.

3. University of Texas at Arlington, School of Urban and Public Affairs, Box 19588, 601 South Nedderman Drive, Arlington, TX 76019. Grant: $14,200 to Marlene O' Meara.

4. The Regents of the University of California, Political Science Department, 2000 University Office Building, Riverside, CA 92521. Grant: $15,000 to Jeffery McLaughlin.

5. The Regents of the University of California, UCLA-Department of Sociology, 10920 Wilshire Blvd., Suite 1200, Los Angeles, CA 90024. Grant: $15,000 to Andrew Deener.

6. Georgia Institute of Technology, 275 5th Street, 1st Floor, Atlanta, GA 30332. Grant: $15,000 to Valerie Riecke.

7. Virginia Polytechnic Institute & State University, 460 Turner Street, Suite 306, Blacksburg, VA 24060. Grant: $15,000 to Karen Danielsen-Lang.

8. The Regents of the University of California, UCLA-Department of Sociology, 10920 Wilshire Blvd., Suite 1200, Los Angeles, CA 90024. Grant: $15,000 to R. Varisa Patraporn.

Dated: December 3, 2004.
Dennis C. Shea,
Assistant Secretary for Policy Development & Research.

[FR Doc. E4-3730 Filed 12-17-04; 8:45 am]

BILLING CODE 4210-62-P